DEPARTMENT OF ENERGY

Federal Energy Regulatory Commission

Notice of Intent To File Application for New License

February 2, 2001.

Take notice that the following Notice of Intent to File Application has been filed with the Commission and is available for public inspection:

a. Type of filing: Notice of Intent to File Application for a New License.

b. Project No.: P-459.

c. Date filed: January 17, 2000.

d. Submitted By: Union Electric Company (d.b.a. Ameren/UE).

e. Name of Project: Osage Project.

f. Location: On the Osage River, in Benton, Camden, Miller and Morgan Counties, Missouri. The project occupies federal lands of the United States.

g. Filed Pursuant to: 18 CFR 16.6 of the Commission's regulations.

h. Licensee Contact: Jerry Hogg, Ameren/UE, 617 River Road, Eldon, MO 65026, (860) 665-5936; jhogg@ameren.com.

i. FERC Contact: Any questions on this notice should be addressed to Allan Creamer at (202) 219-0365, or at allan.creamer@ferc.fed.us.

j. Effective date of current license: April 1, 1981.

k. Expiration date of current license: February 28, 2006.

l. The project consists of: (1) a 2,583-foot-long, 148-foot-high dam comprised of, from right to left: (i) a 1,189-foot-long, non-overflow section, (ii) a 520-foot-long gated spillway section, (iii) 511 feet of intake works and powerhouse, and (iv) a 368-foot-long non-overflow section; (2) an impoundment (Lake of the Ozarks), approximately 92 miles in length, covering 55,342 acres at a normal full pool elevation of 660 feet mean sea level; (3) a powerhouse, integral with the dam, containing eight main generating units (172 MW) and two auxiliary units (2.1 MW each), having a total installed capacity of 176.2 MW; and (4) appurtenant facilities. The project generates approximately 675,000 megawatt-hours of electricity annually.

m. Pursuant to 18 CFR 16.8, 16.9, and 16.10 each application for a new license and any competing license applications must be filed with the Commission at least 24 months prior to the expiration of the existing license. All applications for license for this project must be filed by February 28, 2004.

David P. Boergers,
Secretary.

[FR Doc. 01-3259 Filed 2-7-01; 8:45 am]

BILLING CODE 6717-01-M